SECURITIES AND EXCHANGE COMMISSION

[File No. 500-1]

In the Matter of Press Ventures, Inc.; Order of Suspension of Trading

October 30, 2013.

It appears to the Securities and Exchange Commission that the public interest and the protection of investors require a suspension of trading in the securities of Press Ventures, Inc. (“PVEN”) because of concerns regarding potentially manipulative transactions in PVEN's common stock. PVEN is a Nevada corporation based in Warsaw, Poland. It is quoted on OTCBB and OTC Link under the symbol PVEN.

The Commission is of the opinion that the public interest and the protection of investors require a suspension of trading in the securities of the above-listed company.

Therefore, it is ordered, pursuant to Section 12(k) of the Securities Exchange Act of 1934, that trading in the securities of the above-listed company is suspended for the period from 9:30 a.m. EDT on October 30, 2013 through 11:59 p.m. EST on November 12, 2013.

By the Commission.
Elizabeth M. Murphy,
Secretary.

[FR Doc. 2013-26293 Filed 10-30-13; 4:15 pm]

BILLING CODE 8011-01-P